DEPARTMENT OF TRANSPORTATION

Federal Motor Carrier Safety Administration

[Docket No. FMCSA-2022-0107]

Agency Information Collection Activities; Renewal of an Approved Information Collection: Designation of Agents, Motor Carriers, Brokers and Freight Forwarders

AGENCY: Federal Motor Carrier Safety Administration (FMCSA), Department of Transportation (DOT).

ACTION: Notice and request for comments.

SUMMARY: In accordance with the Paperwork Reduction Act of 1995, FMCSA announces its plan to submit the Information Collection Request (ICR) described below to the Office of Management and Budget (OMB) for its review and approval and invites public comment. FMCSA requests approval to renew an ICR titled “Designation of Agents, Motor Carriers, Brokers and Freight Forwarders,” OMB control number 2126-0015. This is necessary to provide motor carriers, property brokers, and freight forwarders a means of meeting process agent requirements. No comments were received from the 60-day Federal Register publication.

DATES: Comments on this notice must be received on or before January 26, 2023.

ADDRESSES: Written comments and recommendations for the proposed information collection should be sent within 30 days of publication of this notice to www.reginfo.gov/public/do/PRAMain. Find this information collection by selecting “Currently under 30-day Review—Open for Public Comments” or by using the search function.

FOR FURTHER INFORMATION CONTACT: Lorenzo Allen, Office of Registration, DOT, FMCSA, 6th Floor, West Building, 1200 New Jersey Avenue SE, Washington, DC 20590-0001; 202-385-2465; lorenzo.allen@dot.gov.

SUPPLEMENTARY INFORMATION: Title: Designation of Agents, Motor Carriers, Brokers and Freight Forwarders.

OMB Control Number: 2126-0015.

Type of Request: Renewal.

Respondents: Motor carriers, freight forwarders and brokers.

Estimated Number of Respondents: 20,649.

Estimated Time per Response: 10 minutes, or 0.167 hours.

Expiration Date: January 31, 2023.

Frequency of Response: On occasion.

Estimated Total Annual Burden: 3,448 hours (20,649 respondents × 0.167 hours per response).

Background

The Secretary of Transportation (Secretary) is authorized to register motor carriers under the provisions of 49 U.S.C. 13902; freight forwarders under the provisions of 49 U.S.C. 13903; and property brokers under provisions of 49 U.S.C. 13904. These persons may conduct transportation services only if they are registered pursuant to 49 U.S.C. 13901. The Secretary delegated authority pertaining to these registration requirements to FMCSA in 49 CFR 1.73(a)(5).

Registered motor carriers, brokers, and freight forwarders must designate an agent on whom service of notices in proceedings before the Secretary may be made (49 U.S.C. 13303). Registered motor carriers must also designate an agent for every State in which they operate and traverse in the United States during such operations, on whom process issued by a court may be served in actions brought against the registered motor carrier (49 U.S.C. 13304, 49 CFR 366.4T). Every broker shall make a designation for each State in which its offices are located or in which contracts are written (49 U.S.C. 13304, 49 CFR 366.4T). Regulations governing the designation of process agents are found at 49 CFR part 366. This designation is filed with FMCSA on Form BOC-3, “Designation of Agents for Service of Process.”

For this renewal, the program's annual burden hours decreased from 6,508 to 3,448. This is due to an updated estimate of the number of respondents and responses.

Public Comments Invited: You are asked to comment on any aspect of this information collection, including: (1) whether the proposed collection is necessary for the performance of FMCSA's functions; (2) the accuracy of the estimated burden; (3) ways for FMCSA to enhance the quality, usefulness, and clarity of the collected information; and (4) ways that the burden could be minimized without reducing the quality of the collected information.

Issued under the authority of 49 CFR 1.87.
Thomas P. Keane,
Associate Administrator, Office of Research and Registration.

[FR Doc. 2022-28042 Filed 12-23-22; 8:45 am]

BILLING CODE 4910-EX-P